DEPARTMENT OF TRANSPORTATION

Office of the Secretary

Application of Harris Aircraft Services, Inc. for Certificate Authority

Correction

In notice document 2015-19910 appearing on page 48622 in the issue of August 13, 2015, make the following correction:

On page 48622, in the first column, under the DATES heading, in the third line, “August 27, 2015” should read “August 21, 2015”.

[FR Doc. C1-2015-19910 Filed 8-19-15; 8:45 am]

BILLING CODE 1505-01-D